DEPARTMENT OF THE TREASURY

Office of Foreign Assets Control

Additional Designations, Foreign Narcotics Kingpin Designation Act

AGENCY: Office of Foreign Assets Control, Treasury.

ACTION: Notice.

SUMMARY: The Treasury Department's Office of Foreign Assets Control (“OFAC”) is publishing the names of 15 individuals and 8 entities whose property and interests in property have been blocked pursuant to the Foreign Narcotics Kingpin Designation Act (“Kingpin Act”) (21 U.S.C. 1901-1908, 8 U.S.C. 1182).

DATES: The designation by the Director of OFAC of the 15 individuals and 8 entities identified in this notice pursuant to section 805(b) of the Kingpin Act is effective on March 18, 2010.

FOR FURTHER INFORMATION CONTACT: Assistant Director, Compliance Outreach & Implementation, Office of Foreign Assets Control, Department of the Treasury, Washington, DC 20220, tel.: 202/622-2490.

SUPPLEMENTARY INFORMATION:

Electronic and Facsimile Availability

This document and additional information concerning OFAC are available on OFAC's Web site (http://www.treas.gov/ofac) or via facsimile through a 24-hour fax-on-demand service, tel.: (202) 622-0077.

Background

The Kingpin Act became law on December 3, 1999. The Kingpin Act establishes a program targeting the activities of significant foreign narcotics traffickers and their organizations on a worldwide basis. It provides a statutory framework for the President to impose sanctions against significant foreign narcotics traffickers and their organizations on a worldwide basis, with the objective of denying their businesses and agents access to the U.S. financial system and the benefits of trade and transactions involving U.S. companies and individuals.

The Kingpin Act blocks all property and interests in property, subject to U.S. jurisdiction, owned or controlled by significant foreign narcotics traffickers as identified by the President. In addition, the Secretary of the Treasury consults with the Attorney General, the Director of the Central Intelligence Agency, the Director of the Federal Bureau of Investigation, the Administrator of the Drug Enforcement Administration, the Secretary of Defense, the Secretary of State, and the Secretary of Homeland Security when designating and blocking the property and interests in property, subject to U.S. jurisdiction, of persons who are found to be: (1) Materially assisting in, or providing financial or technological support for or to, or providing goods or services in support of, the international narcotics trafficking activities of a person designated pursuant to the Kingpin Act; (2) owned, controlled, or directed by, or acting for or on behalf of, a person designated pursuant to the Kingpin Act; or (3) playing a significant role in international narcotics trafficking.

On March 18, 2010, the Director of OFAC designated 15 individuals and 8 entities whose property and interests in property are blocked pursuant to section 805(b) of the Foreign Narcotics Kingpin Designation Act.

The list of additional designees is as follows:

Individuals:

1. RENDON HERRERA, Freddy Enrique (a.k.a. “El Aleman”); Colombia; DOB 21 Sep 1973; POB Colombia; Citizen Colombia; Nationality Colombia; Cedula No. 15349556 (Colombia); (INDIVIDUAL) [SDNTK]

2. USUGA DAVID, Juan de Dios, Colombia; POB Monteria, Cordoba; Citizen Colombia; Nationality Colombia; Cedula No. 71938240 (Colombia); (INDIVIDUAL) [SDNTK]

3. USUGA DAVID, Dairo Antonio, Colombia; DOB 15 Sep 1971; POB Colombia; Citizen Colombia; Nationality Colombia; Cedula No. 71980054 (Colombia); (INDIVIDUAL) [SDNTK]

4. OCAMPO MORALES, Jorge Eliecer, Colombia; DOB 16 Feb 1979; POB Colombia; Citizen Colombia; Nationality Colombia; Cedula No. 8436557 (Colombia); (INDIVIDUAL) [SDNTK]

5. SIERRA FERNANDEZ, Juan Felipe, c/o CONTROL TOTAL LTDA, Colombia; c/o CANINOS PROFESIONALES LTDA, Medellin, Colombia; Colombia; DOB 13 Mar 1971; POB Medellin, Colombia; Citizen Colombia; Nationality Colombia; Cedula No. 98554666 (Colombia); (INDIVIDUAL) [SDNTK]

6. OCHOA GUISAO, Walter, Colombia; POB Colombia; Citizen Colombia; Nationality Colombia; Cedula No. 10179825 (Colombia); (INDIVIDUAL) [SDNTK]

7. NEGRETE LUNA, Jose Maria, Colombia; DOB 06 Jun 1971; POB Lorica, Cordoba, Colombia; Citizen Colombia; Nationality Colombia; Cedula No. 15031586 (Colombia); (INDIVIDUAL) [SDNTK]

8. VARGAS GUTIERREZ, Roberto, Colombia; POB Colombia; Citizen Colombia; Nationality Colombia; Cedula No. 71981878 (Colombia); (INDIVIDUAL) [SDNTK]

9. MEJIA VALENCIA, Gonzalo Alberto, Carrera 41, No. 29A-29, Maranilla, Antioquia, Colombia; DOB 23 Apr 1979; POB Colombia; Citizen Colombia; Nationality Colombia; Cedula No. 70729968 (Colombia); Passport AJ441012 (Colombia); (INDIVIDUAL) [SDNTK]

10. SANCHEZ GONZALEZ, Arnulfo, Colombia; DOB 14 Jul 1972; POB Casanare, Colombia; Citizen Colombia; Nationality Colombia; (INDIVIDUAL) [SDNTK]

11. MANCO TORRES, Jhon Freddy, c/o VIGILAR COLOMBIA LTDA., Apartado, Antioquia, Colombia; Colombia; DOB 22 Oct 1973; POB Colombia; Citizen Colombia; Nationality Colombia; Cedula No. 71981992 (Colombia); (INDIVIDUAL) [SDNTK]

12. TORRES MARTINEZ, Camilo, c/o REPUESTOS EL NATO Y CIA LTDA., Medellin, Colombia; c/o MI CARRO E.U., Medellin, Colombia; c/o AGROPECUARIA HATO SANTA MARIA LTDA., Medellin, Colombia; Colombia; POB Colombia; Citizen Colombia; Nationality Colombia; Cedula No. 71984381 (Colombia); (INDIVIDUAL) [SDNTK]

13. TORO OSORIO, Julio Alberto, c/o RENTA CAMPEROS URABA LTDA., Apartado, Antioquia, Colombia; c/o VIGILAR COLOMBIA LTDA., Apartado, Antioquia, Colombia; c/o CENTRO DE DIAGNOSTICO AUTOMOTRIZ EJE BANANERO S.A., Apartado, Antioquia, Colombia; c/o REPUESTOS EL NATO Y CIA LTDA., Medellin, Colombia; Colombia; POB Colombia; Citizen Colombia; Nationality Colombia; Cedula No. 15367370 (Colombia); (INDIVIDUAL) [SDNTK]

14. NINO CARDENAS, Julio Cesar, c/o MI CARRO E.U., Medellin, Colombia; POB Colombia; Citizen Colombia; Nationality Colombia; Cedula No. 70513214 (Colombia); (INDIVIDUAL) [SDNTK]

15. SALAZAR CARDENAS, Carlos Mario, c/o MI CARRO E.U., Medellin, Colombia; POB Colombia; Citizen Colombia; Nationality Colombia; Cedula No. 13485023 (Colombia); (INDIVIDUAL) [SDNTK]

Entities:

16. VIGILAR COLOMBIA LTDA., Cl. 99 # 106-20, Apartado, Antioquia, Colombia; NIT # 8909390136 (Colombia); (ENTITY) [SDNTK]

17. RENTA CAMPEROS URABA LTDA., Cra. 101 # 94-33, Apartado, Antioquia, Colombia; Chigorodo, Antioquia, Colombia; Turbo, Antioquia, Colombia; Necocli, Antioquia, Colombia; NIT # 8909417652 (Colombia); (ENTITY) [SDNTK]

18. CONTROL TOTAL LTDA, Cra. 45, 23 A Sur-32, Envigado, Antioquia, Colombia; NIT # 8110160518 (Colombia); (ENTITY) [SDNTK]

19. CANINOS PROFESIONALES LTDA, Carrera 43B No. 14-51, Oficina 103, Medellin, Colombia; NIT # 8002104948 (Colombia); (ENTITY) [SDNTK]

20. MI CARRO E.U., Calle 33 No. 75C-40, Medellin, Colombia; NIT # 9000750838 (Colombia); (ENTITY) [SDNTK]

21. REPUESTOS EL NATO Y CIA LTDA., Calle 55 No, 50-111, Medellin, Colombia; NIT # 8110037873 (Colombia); (ENTITY) [SDNTK]

22. CENTRO DE DIAGNOSTICO AUTOMOTRIZ EJE BANANERO S.A., Carrera 104 No. 96-97, Apartado, Antioquia, Colombia; NIT # 900228328 (Colombia); (ENTITY) [SDNTK]

23. AGROPECUARIA HATO SANTA MARIA LTDA., Carrera 43B No. 12-133, Medellin, Colombia; NIT # 9001387615 (Colombia); (ENTITY) [SDNTK]

Dated: March 18, 2010.
Adam J. Szubin,
Director, Office of Foreign Assets Control.

[FR Doc. 2010-6410 Filed 3-23-10; 8:45 am]

BILLING CODE 4810-AL-P